DEPARTMENT OF COMMERCE

National Oceanic and Atmospheric Administration

[RTID 0648-XF163]

Implementation of Fish and Fish Product Import Provisions of the Marine Mammal Protection Act—Notification of Comparability Findings and Implementation of Import Restrictions; Certification of Admissibility for Certain Fish Products

AGENCY: National Marine Fisheries Service (NMFS), National Oceanic and Atmospheric Administration (NOAA), Commerce.

ACTION: Notice of comparability findings and implementation and continuation of trade restrictions for certain fish and fish products.

SUMMARY: Under the authority of the Marine Mammal Protection Act (MMPA), the NMFS Assistant Administrator for Fisheries (Assistant Administrator) announces comparability finding determinations for all fisheries on the List of Foreign Fisheries (LOFF) for harvesting nations that export fish and fish products to the United States. Nations whose fisheries were denied comparability findings will be prohibited from importing fish and fish products from those fisheries into the United States beginning January 1, 2026. Until such time as the import restrictions imposed by this action are lifted or revised, trade restrictions on these products associated with the fisheries for which a comparability finding has been denied will continue and Certification of Admissibility will be required.

DATES: Comparability findings announced in this notice and compliance with the import restrictions and Certification of Admissibility requirements described in this notice are required beginning January 1, 2026, and will remain in effect until December 31, 2029, or for such other period as NMFS may specify.

FOR FURTHER INFORMATION CONTACT: Kellie Foster-Taylor; Office of International Affairs, Trade, and Commerce, NMFS, mmpa.loff@noaa.gov.

SUPPLEMENTARY INFORMATION:

Background

The MMPA requires the United States to ban the importation of commercial fish or products from fish that have been caught with commercial fishing technology which results in the incidental kill or incidental serious injury of ocean mammals in excess of U.S. standards (16 U.S.C. 1371(a)(2)). For the purposes of applying this import ban, the Secretary of Commerce shall insist on reasonable proof from the government of any nation from which fish or fish products will be exported to the United States of the effects on ocean mammals of the commercial fishing technology in use for such fish or fish products exported from such nation to the United States. (16 U.S.C. 1371(a)(2)(A)).

In August 2016, NMFS published a final rule (81 FR 54390; August 15, 2016) (Final Rule) implementing the fish and fish product import provisions in section 1371(a)(2) of the MMPA. The Final Rule established a process to evaluate a harvesting nation's regulatory program concerning the incidental and intentional mortality and serious injury of marine mammals in fisheries operated by nations that export fish and fish products to the United States. Under the Final Rule, fish or fish products may not be imported into the United States from commercial fishing operations that result in the incidental mortality or serious injury of marine mammals in excess of U.S. standards.

NMFS published a LOFF on October 8, 2020 (85 FR 63527), classifying fisheries subject to the import requirements. The process to classify fisheries on the LOFF follows the classifications for U.S. domestic fisheries (List of Fisheries) based on the likelihood of marine mammal bycatch during commercial fishing operations. Foreign commercial fishing operations were classified as either “Exempt” or “Export” based on their likelihood of marine mammal interactions. Exempt fisheries are fisheries that have no known, or a remote likelihood of marine mammal bycatch. Export fisheries are those fisheries with more than a remote likelihood of marine mammal bycatch or insufficient information available on marine mammal interactions. Exempt fisheries are considered to be the functional equivalent to Category III fisheries under the U.S. regulatory program, while Export fisheries are considered to be the functional equivalent to Category I and II fisheries combined under the U.S. domestic List of Fisheries.

The Final Rule established a five-year exemption period before imports would be subject to any trade restrictions (see 50 CFR 216.24(h)(2)(ii)); however, NMFS extended the exemption period and the date by which comparability findings applications were due three times. The exemption period ends on December 31, 2025.

The MMPA does not define “U.S. standards” or identify specific measures that NMFS must consider in the context of evaluating a foreign nation's commercial fishing operations pursuant to 16 U.S.C. 1371(a)(2). NMFS explained in the Final Rule that it did not intend to regulate marine mammals within a harvesting nation's coastal waters; instead, NMFS will evaluate whether a harvesting nation that seeks to export fish and fish products to the United States maintains a regulatory program that is “comparable in effectiveness” (not identical), to the U.S. regulatory program, meaning that the regulatory program effectively achieves comparable results to the U.S. regulatory program. Pursuant to this approach, NMFS determined that, for purposes of implementing section 1371(a)(2), “U.S. standards” were those set out for domestic fisheries under sections 1386 and 1387 of the MMPA.

The MMPA also states that the Secretary shall insist on reasonable proof from the government of any nation from which fish or fish products will be exported to the United States of the effects on ocean mammals of the commercial fishing technology in use for such fish or fish products exported from such nation to the United States (16 U.S.C. 1372(a)(2)(A)). As the term “reasonable proof” is not defined by the MMPA, NMFS explained in the Final Rule that harvesting nations will be required to include in their application documentary evidence of sufficient detail, quality, and reliability for NMFS to fully evaluate the regulatory program for a given Export fishery, and determinations will be made based on the best scientific information available. NMFS also stated that it would take into consideration the uncertainty of any scientific information provided by a harvesting nation or that is otherwise readily available. To that end, foreign nations were required to provide the following information in their comparability findings applications for all of their fisheries on the LOFF: (1) target species; (2) gear types; (3) area of fishing operations; (4) existing fisheries; (5) lists of all marine mammals in the nations' waters that overlap with its fisheries, including stock abundance estimates, recent and planned abundance survey dates and bycatch limits; (6) timing of the fishery(ies); (7) annual mortality rates of marine mammal interactions in fisheries that export fish and fish products to the United States; (8) marine mammal monitoring programs; (9) bycatch reduction measures; and (10) copies of relevant laws, decrees, and implementing regulations or measures related to commercial fisheries and marine mammal interactions. NMFS supplemented the information provided in the harvesting nations' applications with any readily available information. NMFS has, since enacting the Final Rule, also coordinated closely with the harvesting nations, the U.S. Department of State, the Office of the U.S. Trade Representative, the U.S. Department of Homeland Security, and other experts to gather as much information as possible to make informed decisions about whether a harvesting nation's fisheries would qualify for a comparability finding.

Approach to Evaluating Nation's Comparability Finding Applications

The current action is the first time that NMFS has evaluated and issued final comparability findings for all harvesting nations and fisheries seeking to export fish and fish products to the United States (135 nations covering approximately 2,500 fisheries). NMFS's Final Rule and the implementation of the import provisions program under 16 U.S.C. 1371(a)(2) was designed to be an iterative process based on the fact that harvesting nations would be at different stages in their efforts to regulate commercial fisheries interactions with marine mammals and would need time and support to build capacity. In addition, NMFS expected that the quality and quantity of data about the harvesting nations' efforts would vary considerably. These factors led NMFS to concentrate its efforts on this initial set of findings on developing a baseline of knowledge for all nations identified on the LOFF.

To achieve consistency across the array of nations and fisheries that NMFS had to consider, NMFS created a standardized decision-making process based on the Final Rule. The U.S. domestic regulatory program prioritizes action based on the risks presented to marine mammals by different fisheries. The MMPA establishes a process for prioritizing the development and implementation of regulations to address marine mammal incidental mortality and serious injury in those fisheries that carry specific risks to strategic stocks that interact with Category I or II fisheries (comparable to Export fisheries under the Final Rule). Accordingly, NMFS developed a step-wise process designed to review the harvesting nations' regulatory programs under a prioritization approach comparable to the U.S. regulatory program.

Under this prioritization approach, the harvesting nation was required to demonstrate for both Export and Exempt fisheries either that it prohibited the intentional mortality and serious injury of marine mammals in the course of commercial fishing operations or that it had procedures to reliably certify that exports of fish and fish products to the United States are not the product of an intentional killing of or serious injury to a marine mammal. The intentional killing prohibition provision was a threshold issue; failure to demonstrate a prohibition, or alternative measures such as licensing conditions that in their totality served as a prohibition, resulted in a denial of a comparability finding. For Export fisheries, which have a greater inherent risk of marine mammal interaction, the harvesting nation was also required to demonstrate that it maintained a regulatory program that is comparable in effectiveness to the U.S. regulatory program (see 50 CFR 216.24(h)(6)(iii)(B)). In significant part, a harvesting nation's regulatory program was reviewed largely based on the relative risk of entanglement or capture presented to marine mammals by operation of the Export fisheries. NMFS focused heavily on the type of gear used in the fisheries and the status of the potentially affected marine mammal species/stock. For example, NMFS was especially concerned with fisheries that (i) use high-risk gear (e.g., gillnets); (ii) lack mitigation measures; and (iii) overlap with marine mammal stocks or species that have a level of incidental mortality and serious injury that exceeds the potential biological removal level, have small population sizes, and/or are declining most rapidly (see 16 U.S.C. 1387(f)(3)). During its review, NMFS considered all marine mammals that nations included in their applications as well as any additional marine mammals for which NMFS had readily available information or scientific expertise to indicate that those additional stocks or species occurred in the nations' waters. NMFS based the ultimate determinations on the available data, the differences among harvesting nations' regulatory programs, the resources at their disposal, and the specific facts and circumstances surrounding their Export fisheries. During its review, NMFS considered all marine mammals that the nations included in their applications as well as any additional marine mammals for which NMFS had readily available information or scientific expertise to indicate that those additional stocks or species occurred in the nations' waters.

In sum, NMFS applied a framework based on the Final Rule to determine whether the harvesting nations had laws, regulations, and processes in place to prohibit intentional mortality and serious injury, as well as address incidental mortality and serious injury of marine mammals in the course of their commercial fisheries operations, and whether their regulatory programs were comparable in effectiveness to the U.S. regulatory program.

Comparability Finding Determinations

A comparability finding means the harvesting nations' Export and/or Exempt fisheries meet the applicable conditions specified in the Final Rule. Comparability findings are fishery-specific, not nation-specific, so nations receiving denials for some, but not all of their fisheries, will be able to continue exporting fish or fish products to the United States from any fishery that receives a comparability finding. Effective January 1, 2026, fish and fish products from Export and Exempt fisheries identified by the Assistant Administrator in the LOFF may only be imported into the United States if the harvesting nation has applied for and received a comparability finding from NMFS. In total, NMFS evaluated 135 nations and approximately 2,500 fisheries. As a part of the comparability finding process set forth in 50 CFR 216.24(h)(6) and 50 CFR 216.24(h)(7), the Assistant Administrator has made determinations as listed below. NMFS is directly notifying all harvesting nations of the comparability finding determinations for their fisheries on the LOFF. The list of nations, including the individual fisheries receiving and not receiving comparability findings, as well as NMFS' Decision Memo and Final Comparability Finding Application Reports can be found at: https://www.fisheries.noaa.gov/international-affairs/2025-marine-mammal-protection-act-comparability-finding-determinations.

Nations Receiving Comparability Findings for All Fisheries on the LOFF

Based on NMFS' analysis, the following 89 nations have been issued comparability findings for all of their Export and Exempt fisheries on the LOFF: Albania, Antigua and Barbuda, Argentina, Australia, The Bahamas, Bahrain, Barbados, Belgium, Belize, Bermuda, Brunei, Bulgaria, Cambodia, Canada, Cape Verde, Cook Islands, Costa Rica, Côte d'Ivoire (Ivory Coast), Croatia, Cyprus, Denmark, Dominican Republic, Egypt, Estonia, Falkland Islands, Faroe Islands, Federated States of Micronesia, Fiji, Finland, France, France—St. Pierre et Miquelon, French Polynesia, French Southern and Antarctic Lands, Georgia, Germany, Greece, Greenland, Guatemala, Guyana, Honduras, Hong Kong, Iceland, India, Israel, Italy, Jamaica, Japan, Kiribati, Latvia, Lithuania, Maldives, Malta, Marshall Islands, Mauritius, Morocco, Nauru, The Netherlands, New Zealand, Nicaragua, Norway, Pakistan, Palau, Panama, Papua New Guinea, Poland, Portugal, Saint Helena/Tristan da Cunha (UK), Saint Vincent and the Grenadines, Samoa, Seychelles, Sierra Leone, Singapore, Slovenia, Solomon Islands, South Africa, Spain, Sweden, Tanzania, Thailand, Tonga, Trinidad and Tobago, Tunisia, Turks and Caicos, Tuvalu, Ukraine, United Kingdom, Uruguay, Vanuatu, and Yemen.

Nations Receiving Comparability Findings for a Subset of Their Fisheries on the LOFF

Based on NMFS analysis, the following 34 nations have been issued comparability findings for some but not all of their Export fisheries on the LOFF: Bangladesh, Brazil, Cameroon, Chile, China, Colombia, Ecuador, El Salvador, Ghana, Indonesia, Ireland, Kenya, Liberia, Madagascar, Malaysia, Mauritania, Mexico, Mozambique, Myanmar (Burma), Nigeria, Oman, Peru, Philippines, Republic of Korea, Saint Kitts and Nevis, Saudi Arabia, Senegal, Somalia, Sri Lanka, Suriname, Taiwan, Türkiye, United Arab Emirates, and Vietnam.

Nations That Failed To Obtain Comparability Findings for All Export and Exempt Fisheries

Based on NMFS analysis, the following eight nations were denied comparability findings for all of their fisheries on the LOFF: The Gambia, Grenada, Guinea, Namibia, New Caledonia, Russia, Saint Lucia, and Togo.

Nations That Did Not Submit a Comparability Finding Application and Therefore Failed To Obtain Comparability Findings for All Export and Exempt Fisheries

The following nations have fisheries on the LOFF but did not submit a comparability finding application and so are denied comparability findings for all of their fisheries on the LOFF: Benin, Haiti, Iran, and Venezuela.

Discretionary Review of Comparability Findings

In accordance with 50 CFR 216.24(h)(8)(vii), a comparability finding will be terminated or revoked if the Assistant Administrator determines that the requirements of 50 CFR 216.24(h)(6) are no longer being met. If a nation is denied a comparability finding for its fisheries, it may reapply for a comparability finding for the affected fisheries at any time after January 1, 2026.

List of Foreign Fisheries

As part of their applications for comparability findings, nations updated their 2020 Lists of Foreign Fisheries to accurately reflect their current harvesting fisheries. A copy of the LOFF reflecting these changes by nations is published on NMFS' website at https://www.fisheries.noaa.gov/international-affairs/2025-marine-mammal-protection-act-comparability-finding-determinations, along with a change report showing fisheries that were added, deleted, or switched since the 2020 LOFF. NMFS based its Comparability Finding determinations on the most current version of the (LOFF), as supplemented by information received from individual harvesting nations during the comparability finding application process and subsequent communications.

Imposition of Import Restrictions

With respect to a harvesting nation for which the Assistant Administrator has denied or terminated a comparability finding for a fishery, the Assistant Administrator, in cooperation with the Secretaries of the Treasury and Homeland Security, shall identify and prohibit the importation of fish and fish products into the United States from the harvesting nation caught or harvested in that fishery from the harvesting nation caught or harvested in that fishery. The Harmonized Tariff Schedule (HTS) codes associated with the prohibited fish and fish products are published here: https://www.fisheries.noaa.gov/resource/outreach-materials/harmonized-tariff-codes-marine-mammal-protection-act-import.

This list includes those non-specific HTS codes necessary to encompass the range of probable codes used for products subject to trade restriction. All other fish and fish products not within the scope of the import restrictions and imported under the HTS codes associated with the prohibited fish and fish products must be accompanied by a Certification of Admissibility in accordance with the provisions of 50 CFR 216.24(h)(9).

The HTS codes applicable to the products subject to the requirements of this import restriction may be revised from time to time due to updates to the HTS by the International Trade Commission. Any such changes will be notified to the trade community in accordance with U.S. Custom and Border Protection's (CBP) notification procedures. In addition, NMFS and CBP will monitor operations of the trade restriction and the certification requirement to determine if the list of affected HTS codes can be adjusted to further minimize disruption to trade while maintaining compliance with the MMPA import provisions.

Importers are advised to determine if other NMFS program requirements (e.g., Tuna Tracking and Verification Program, Seafood Import Monitoring Program) or other agency requirements (e.g., Fish and Wildlife Service, State Department, Food and Drug Administration) have Automated Commercial Environment (ACE) data reporting requirements applicable to the HTS codes identified as subject to certification under the MMPA import provisions. In such cases, the other reporting requirements still pertain, in addition to the Certification of Admissibility requirements imposed. The Certification of Admissibility is an information collection subject to the requirements of the Paperwork Reduction Act and has been approved by the Office of Management and Budget under control number 0648-0651.

Previous Comparability Findings and Current Import Restrictions

In 2019, NMFS revoked the comparability findings for several Mexican gillnet fisheries within the range of the vaquita in the Upper Gulf of California. This specific fishing area refers to a line NMFS designated across the Gulf of California to differentiate the Upper Gulf from the Lower Gulf, noting that fisheries operating in the Lower Gulf were not subject to that import ban. For the purposes of the import restrictions for Mexican fisheries operating in the Upper Gulf of California, this area is defined as waters north of a straight line connecting Puertecitos Pier (30.344825, −114.636688) and Faro de Puerto Lobos (30.268379, −112.863984).

The vaquita is a species of porpoise found in the northern part of the Gulf of California that is on the brink of extinction. The decision was based on the Government of Mexico's failure to demonstrate that it has implemented and enforced a regulatory program, comparable in effectiveness to that of the United States, to govern vaquita-safe commercial fisheries operating in the Upper Gulf of California. Current trade restrictions for these fisheries will remain in effect until such time as the Government of Mexico demonstrates that actions to meet the conditions for comparability findings are implemented and enforced for the denied fisheries. Until such time as the import restrictions imposed by this action are lifted or revised, Certification of Admissibility will be required. More information for importers for fish and fish products from Mexico can be found at: https://www.fisheries.noaa.gov/foreign/marine-mammal-protection/seafood-import-prohibitions-under-marine-mammal-protection-act.

Dated: August 28, 2025.
Samuel D. Rauch, III,
Deputy Assistant Administrator for Regulatory Programs, National Marine Fisheries Service.

[FR Doc. 2025-16776 Filed 8-29-25; 8:45 am]

BILLING CODE 3510-22-P